DEPARTMENT OF COMMERCE

National Oceanic and Atmospheric Administration

RIN 0648-XC296

New England Fishery Management Council; Public Meeting

AGENCY: National Marine Fisheries Service (NMFS), National Oceanic and Atmospheric Administration (NOAA), Commerce.

ACTION: Notice; public meeting.

SUMMARY: The New England Fishery Management Council's (Council) Groundfish Committee will meet to consider actions affecting New England fisheries in the exclusive economic zone (EEZ).

DATES: The meeting will be held on Monday, November 5, 2012 at 9 a.m.

ADDRESSES: The meeting will be held at the Holiday Inn By the Bay, 88 Spring Street, Portland, ME 04101; telephone: (207) 775-2311; fax: (207) 772-4017.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee's agenda are as follows:

The Groundfish Oversight Committee will meet to continue development of Framework Adjustment 48 to the Northeast Multispecies Fishery Management Plan. The Committee will review all options that have been developed and may select preferred alternatives for this action. Measures in the framework include specifications for Fishing Year 2013-15, additional sub-Annual Catch Limits, measures that address monitoring issues for groundfish sectors, changes to accountability measures, recreational fishing measures, and measures that would allow limited access to existing year-round groundfish closed areas. The Committee will also review suggested Council priorities for 2013, and may develop recommendations for those priorities. The Committee will also consider developing possible mitigation measures for the low catch levels expected in Fishing Year 2013, such as recommending the Council pursue measures to increase landings of skates, dogfish, and monkfish. Committee recommendations will be considered by the Council at the November Council meeting. Other business may be discussed.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: October 15, 2012.
William D. Chappell,
Acting Deputy Director, Office of Sustainable Fisheries, National Marine Fisheries Service.

[FR Doc. 2012-25722 Filed 10-18-12; 8:45 am]

BILLING CODE 3510-22-P